DEPARTMENT OF STATE

[Public Notice: 12572]

Diversity Visa Instructions for DV-2026; Correction

ACTION: Notice of Diversity Visa Program for Fiscal Year 2026; Correction.

SUMMARY: This document contains a correction to Public Notice 12558 published in the Federal Register on October 1, 2024. The public notice contained an error on the start and end dates for the DV-2026 entry period.

DATES: The notice was effective on October 1, 2024.

SUPPLEMENTARY INFORMATION:

Correction

1. In the public notice published on October 1, 2024, 89 FR 79997, page 79998 of the Entry Period paragraph of SUPPLEMENTARY INFORMATION section lists October 4, 2023, as the start date and November 7, 2023, as the end date of the DV-2026 entry period. These dates are incorrect. The entry period for the DV-2026 Program begins on October 2, 2024, and ends on November 7, 2024. This section is corrected to read as follows:

Entry Period

Applicants must submit entries for the DV-2026 program electronically at dvprogram.state.gov between 12:00 p.m. (noon), Eastern Daylight Time (EDT) (GMT-4), Wednesday, October 2, 2024, and 12:00 p.m. (noon), Eastern Standard Time (EST) (GMT-5), Thursday, November 7, 2024. Do not wait until the last week of the registration period to enter as heavy demand may result in website delays. No late entries or paper entries will be accepted. The law allows only one entry per person during each entry period. The Department of State uses sophisticated technology to detect multiple entries. Submission of more than one entry for a person will disqualify all entries for that person.

2. The entry period dates listed on page 80001 in question 9 of the Frequently Asked Questions portion of the SUPPLEMENTARY INFORMATION section incorrectly reflect the start and end dates of the DV-2026 entry period as Wednesday, October 4, 2023, and Tuesday, November 7, 2023. The correct dates are Wednesday, October 2, 2024, and Thursday, November 7, 2024. Question Nine is corrected to read as follows:

9. When can I submit my entry?

The DV-2026 entry period will run from 12:00 p.m. (noon), Eastern Daylight Time (EDT) (GMT-4), Wednesday, October 2, 2024, until 12:00 p.m. (noon), Eastern Standard Time (EST) (GMT-5), Thursday, November 7, 2024. Each year, millions of people submit entries. Restricting the entry period to these dates ensures selectees receive notification in a timely manner and gives both the visa applicants and our embassies and consulates time to prepare and complete cases for visa issuance.

We strongly encourage you to enter early during the registration period. Excessive demand at end of the registration period may slow the processing system. We cannot accept entries after noon EST on Thursday, November 7, 2024.

3. The entry period dates listed on page 80002 in question 19 of the Frequently Asked Questions portion of the SUPPLEMENTARY INFORMATION section incorrectly reflect the end date of the DV-2026 entry period as November 7, 2023. The correct date is November 7, 2024. Question Nineteen is corrected to read as follows:

19. If the E-DV system rejects my entry, can I resubmit my entry?

Yes, you can resubmit your entry as long as your submission is completed by 12:00 p.m. (noon) Eastern Standard Time (EST) (GMT-5) on Thursday, November 7, 2024. You will not be penalized for submitting a duplicate entry if the E-DV system rejects your initial entry. Given the unpredictable nature of the internet, you may not receive the rejection notice immediately. You can try to submit an application as many times as is necessary until a complete application is received and the confirmation notice sent. Once you receive a confirmation notice, your entry is complete, and you should NOT submit any additional entries.

Julie M. Stufft,
Deputy Assistant Secretary, Bureau of Consular Affairs, Department of State.

[FR Doc. 2024-25240 Filed 10-30-24; 8:45 am]

BILLING CODE 4710-06-P